DEPARTMENT OF ENERGY

Federal Energy Regulatory Commission

[Project No. 14755-000]

Ever Better Hydro Power, LLC; Notice of Preliminary Permit Application Accepted for Filing and Soliciting Comments, Motions To Intervene, and Competing Applications

On February 16, 2016, Ever Better Hydro Power, LLC, filed an application for a preliminary permit, pursuant to section 4(f) of the Federal Power Act (FPA), proposing to study the feasibility of the Pittsfield Mill Dam Hydroelectric Project (Pittsfield Project or project) to be located on Suncook River, in the town of Pittsfield, in Merrimack County, New Hampshire. The sole purpose of a preliminary permit, if issued, is to grant the permit holder priority to file a license application during the permit term. A preliminary permit does not authorize the permit holder to perform any land-disturbing activities or otherwise enter upon lands or waters owned by others without the owners' express permission.

The proposed project would consist of the following: (1) An existing 21-foot-high, 470-foot-long concrete and stone dam with a 150-foot-long ogee spillway, two 4.5-foot-wide, 7-foot-high stoplog bays, and two 6.25-foot-wide, 7.66-foot-high outlet gates; (2) an existing 20-acre impoundment with a normal storage capacity of 112 acre-feet at spillway crest elevation of about 474.5 feet national geodetic vertical datum (NGVD '29); (3) an existing gated intake structure and forebay leading to an existing 200-foot-long, 9-foot-diameter steel penstock; (4) an existing brick building housing a 415 kilowatt (kW) turbine-generator, along with a control panel and switchgear; (5) a new 75-foot-long, 13.8-kilovolt (kV) transmission line connecting the generator to Public Service Company of New Hampshire's existing distribution system; and (6) appurtenant facilities. The estimated annual generation of the proposed Pittsfield Project would be about 1,400 megawatt-hours. The existing dam is owned by New Hampshire Department of Environmental Services.

Applicant Contact: Mr. Douglas Troy, 5 Main Street, Pittsfield, NH 03263; phone: (603) 435-3598.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14755-000.

More information about this project, including a copy of the application, can be viewed or printed on the “eLibrary” link of Commission's Web site at http://www.ferc.gov/docs-filing/elibrary.asp. Enter the docket number (P-14755) in the docket number field to access the document. For assistance, contact FERC Online Support.

Dated: February 25, 2016.
Nathaniel J. Davis, Sr.,
Deputy Secretary.

[FR Doc. 2016-04697 Filed 3-3-16; 8:45 am]

BILLING CODE 6717-01-P